DEPARTMENT OF THE INTERIOR

National Park Service

[2253-665]

Notice of Intent To Repatriate a Cultural Item: Museum of Anthropology at Washington State University, Pullman, WA

AGENCY: National Park Service, Interior.

ACTION: Notice.

Notice is here given in accordance with the Native American Graves Protection and Repatriation Act (NAGPRA), 25 U.S.C. 3005, of the intent to repatriate a cultural item in the possession of the Museum of Anthropology at Washington State University, Pullman, WA, that meets the definition of unassociated funerary object under 25 U.S.C. 3001.

This notice is published as part of the National Park Service's administrative responsibilities under NAGPRA, 25 U.S.C. 3003(d)(3). The determinations in this notice are the sole responsibility of the museum, institution, or Federal agency that has control of the cultural item. The National Park Service is not responsible for the determinations in this notice.

One lot of stone, bone, and glass beads was given to the Museum of Anthropology at Washington State University on an unknown date, but before 1995. The beads were glued to a piece of cardboard and labeled “Umatilla, Oregon.” This reference is believed to be to the old town site of Umatilla, Umatilla County, OR, which was inundated by the reservoir behind John Day Dam. The Old Umatilla town site is also known as archeological site 35UM1. The site is considered to be a prehistoric and historic age Umatilla village that includes a cemetery that dates from approximately 500 B.C. to A.D. 1700. Multiple archeological excavations have been performed at site 35UM1, including the removal of over 230 human burials. In addition to archeological excavations, the Old Umatilla town site was the location of massive grave looting prior to inundation. The lot of beads is identical to the materials and style of manufacture of the funerary items associated with these burials. Therefore, officials of the Museum of Anthropology at Washington State University have determined that this lot of stone, bone, and glass beads is very likely to have been removed from an American Indian grave.

The Old Umatilla town site lies within the traditional lands of the present-day Confederated Tribes of the Umatilla Indian Reservation, Oregon. The Confederated Tribes of the Umatilla Indian Reservation, Oregon, was established by Treaty in 1855 and consists of three tribes: Cayuse, Umatilla, and Walla Walla. Each of these tribes belong to the Sahaptin language group and historically their combined territories occupied over 6 million acres of land in southeastern Washington and northeastern Oregon. The Umatilla reservation and ceded lands roughly encompass the area bounded by the Columbia and Snake Rivers on the north, Willow Creek on the west and the Tucannon River on the east, and include the Old Umatilla town site location.

Officials of the Museum of Anthropology at Washington State University have determined, pursuant to 25 U.S.C. 3001(3)(B), that the one lot described above is reasonably believed to have been placed with or near individual human remains at the time of death or later as part of the death rite or ceremony and is believed, by a preponderance of the evidence, to have been removed from a specific burial site of a Native American individual. Officials of the Museum of Anthropology at Washington State University also have determined, pursuant to 25 U.S.C. 3001(2), that there is a relationship of shared group identity that can be reasonably traced between the unassociated funerary object and the Confederated Tribes of the Umatilla Indian Reservation, Oregon.

Representatives of any other Indian tribe that believes itself to be culturally affiliated with the unassociated funerary object should contact Mary Collins, WSU Museum of Anthropology, P.O. Box 644910, Pullman, WA 99164, telephone (509) 335-4314, before June 13, 2011. Repatriation of the unassociated funerary object to the Confederated Tribes of the Umatilla Indian Reservation, Oregon, may proceed after that date if no additional claimants come forward.

The Museum of Anthropology at Washington State University is responsible for notifying the Confederated Tribes of the Umatilla Indian Reservation, Oregon, that this notice has been published.

Dated: May 9, 2011.
Sherry Hutt,
Manager, National NAGPRA Program.

[FR Doc. 2011-11864 Filed 5-12-11; 8:45 am]

BILLING CODE 4310-50-P